DEPARTMENT OF HEALTH AND HUMAN SERVICES

National Institutes of Health

Center For Scientific Review; Amended Notice of Meeting

Notice is hereby given of a change in the meeting of the Center for Scientific Review Special Emphasis Panel, September 12, 2017, 12:00 p.m. to September 12, 2017, 4:00 p.m., National Institutes of Health, 6701 Rockledge Drive, Bethesda, MD, 20892 which was published in the Federal Register on August 15, 2017, 82 FR 38697.

The meeting will be held on October 24, 2017, 11:00 a.m. to 2:30 p.m. The meeting location remains the same. The meeting is closed to the public.

Dated: September 13, 2017.
David Clary,
Program Analyst, Office of Federal Advisory Committee Policy.

[FR Doc. 2017-19854 Filed 9-18-17; 8:45 am]

BILLING CODE 4140-01-P